DEPARTMENT OF DEFENSE

Office of the Secretary

Federal Advisory Committee; United States Army Science Board; Charter Renewal

AGENCY: Department of Defense (DoD).

ACTION: Renewal of Federal advisory committee.

SUMMARY: Under the provisions of the Federal Advisory Committee Act of 1972, (5 U.S.C. Appendix), the Government in the Sunshine Act of 1976 (5 U.S.C. 552b), and 41 CFR 102-3.50, the Department of Defense gives notice that it is renewing the charter for the United States Army Science Board (hereafter referred to as the Board).

FOR FURTHER INFORMATION CONTACT: Jim Freeman, Deputy Advisory Committee Management Officer for the Department of Defense, 703-601-6128.

SUPPLEMENTARY INFORMATION: The Board is a discretionary Federal advisory committee that shall provide independent advice and recommendations on matters relating to the Army's scientific, technical, manufacturing, acquisition, logistics, and business management functions, and other Department of the Army related matters as determined by the Secretary of the Army.

The Board shall provide independent advice and recommendations to the Secretary of Defense; the Secretary of the Army; the Under Secretary of the Army and Department of the Army Chief Management Officer; the Assistant Secretary of the Army for Acquisition, Logistics and Technology; and as requested, other Army organizations as determined by the Office of the Secretary of the Army.

The Board is not established to advice on individual DoD or Department of the Army procurements, but instead shall be concerned with the pressing and complex technology and business management issues facing the Department of the Army in the areas referenced above.

No matter shall be assigned to the Board for its consideration that would require any Board member to participate personally and substantially in the conduct of any specific procurement or place him or her in the position of acting as a contraction or procurement official.

The Board shall be composed of not more than 80 members who are eminent authorities in one or more of the following disciplines: Science, technology, manufacturing, acquisition, logistics, business management functions, and other matters of special interest to the Department of the Army.

Board members shall be appointed by the Secretary of Defense, and their appointments will be renewed on an annual basis. Those members, who are not full-time or permanent part-time federal officers or employees, shall be appointed as experts and consultants under the authority of 5 U.S.C. 3109, and shall serve as special government employees.

Generally, Board members will be approved by the appointing authority to serve on the Board for a term of three years with annual reappointments. Board members may be approved by the appointing authority to serve on the Board for an additional term with annual reappointments. Appointments normally, will be staggered among the Board membership to ensure balance and an orderly turnover of the Board's overall composition on a periodic basis.

The Secretary of the Army shall designate the Board's Chairperson and Vice Chairperson from the total Board membership. Unless otherwise extended by the Secretary of Defense, in consultation with the Secretary of the Army, the Board's Chairperson and Vice Chairperson shall serve two-year term limits.

With the exception of travel and per diem for official travel, Board members shall serve without compensation. The Secretary of the Army may authorize compensation for Board members when the circumstances warrant.

The Secretary of the Army, pursuant to DoD policies and procedures, may appoint, as deemed necessary, non-voting consultants to provide special expertise to the Board. However, no more than 41 experts and consultants may be appointed to advise the Board. These experts and consultants, if not full-time or part time government employees, shall be appointed under the authority of 5 U.S.C. 3109, shall serve as special government employees, shall be appointed on an intermittent basis to work specific Board-related efforts, shall have no voting rights whatsoever on the Board or any of its subcommittees, and shall not count toward the Board's total membership. Six of the 41 experts and consultants shall be designated “Senior Army Science Board Fellows”, and shall be former Board members. All 41 experts and consultants shall serve terms of appointments as determined by the Secretary of the Army, and those appointments shall be renewed as appropriate.

With DoD approval, the Board is authorized to establish subcommittees, as necessary and consistent with its mission. These subcommittees or working groups shall operate under the provisions of the Federal Advisory Committee Act of 1972, the Government in the Sunshine Act of 1976 (5 U.S.C. 552b), and other appropriate Federal statutes and regulations.

Such subcommittees or workgroups shall not work independently of the chartered Board, and shall report all their recommendations and advice to the Board for full deliberation and discussion. Subcommittees or workgroups have no authority to make decisions on behalf of the chartered Board; nor can they report directly to the Department of Defense or any Federal officers or employees who are not Board members.

Subcommittee members, who are not Board members, shall be appointed in the same manner as the Board members.

The Board shall meet at the call of the Board's Designated Federal Officer, in consultation with the Chairperson. The estimated number of Board meetings is four per year.

The Designated Federal Officer and Alternate Designated Federal Officer, pursuant to DoD policy, shall be a full-time or permanent part-time DoD employee, and shall be appointed in accordance with established DoD policies and procedures. In addition, the Designated Federal Officer is required to be in attendance at all Committee and subcommittee meetings; however, in the absence of the Designated Federal Officer, the Alternate Designated Federal Officer shall attend the meeting.

Pursuant to 41 CFR 102-3.105(j) and 102-3.140, the public or interested organizations may submit written statements to the United States Army Science Board's membership about the Board's mission and functions. Written statements may be submitted at any time or in response to the stated agenda of planned meeting of United States Army Science Board.

All written statements shall be submitted to the Designated Federal Officer for the United States Army Science Board, and this individual will ensure that the written statements are provided to the membership for their consideration. Contact information for the United States Army Science Board Designated Federal Officer can be obtained from the GSA's FACA Database— https://www.fido.gov/facadatabase/public.asp.

The Designated Federal Officer, pursuant to 41 CFR 102-3.150, will announce planned meetings of the United States Army Science Board. The Designated Federal Officer, at that time, may provide additional guidance on the submission of written statements that are in response to the stated agenda for the planned meeting in question.

Dated: April 27, 2010.
Mitchell S. Bryman,
Alternate OSD Federal Register Liaison Officer, Department of Defense.

[FR Doc. 2010-10122 Filed 4-29-10; 8:45 am]

BILLING CODE 5001-06-P